DEPARTMENT OF COMMERCE

International Trade Administration

[C-570-009]

Calcium Hypochlorite From the People's Republic of China: Notice of Postponement of Preliminary Determination in the Countervailing Duty Investigation

AGENCY: Enforcement and Compliance, formerly Import Administration, International Trade Administration, Department of Commerce.

DATES: Effective Date: May 12, 2014.

FOR FURTHER INFORMATION CONTACT: Katie Marksberry, AD/CVD Operations, Office V, Enforcement and Compliance, U.S. Department of Commerce, 14th Street and Constitution Avenue NW., Washington, DC 20230; telephone: 202-482-7906.

SUPPLEMENTARY INFORMATION:

Background

On January 7, 2014, the Department of Commerce (“Department”) initiated the countervailing duty investigation of calcium hypochlorite from the People's Republic of China.¹ Currently, the preliminary determination is due no later than March 13, 2014.

¹ See Calcium Hypochlorite From the People's Republic of China: Initiation of Countervailing Duty Investigation, 79 FR 2417 (January 14, 2014).

Postponement of Due Date for Preliminary Determination

Section 703(b)(1) of the Tariff Act of 1930, as amended (“the Act”), requires the Department to issue the preliminary determination in a countervailing duty investigation within 65 days after the date on which the Department initiated the investigation. However, the Department may postpone making the preliminary determination until no later than 130 days after the date on which the administering authority initiated the investigation if the petitioner makes a timely request for an extension pursuant to section 703(c)(1)(A) of the Act. In the instant investigation, Petitioner ² made a timely request on February 12, 2014, requesting a postponement of the preliminary determination pursuant to 19 CFR 351.205(b)(2).³ Therefore, pursuant to the discretion afforded the Department under section 703(c)(1)(A) of the Act and because the Department does not find any compelling reason to deny the request, we are fully postponing the due date until 130 days after the Department's initiation for the preliminary determination. Therefore, the deadline for the completion of the preliminary determination is now May 19, 2014.⁴

² Arch Chemicals, Inc.

³ See 19 CFR 351.205(e) and Petitioner's February 12, 2014 letter requesting postponement of the preliminary determination.

⁴ Department practice dictates that where a deadline falls on a weekend or federal holiday, the appropriate deadline is the next business day. See Notice of Clarification: Application of “Next Business Day” Rule for Administrative Determination Deadlines Pursuant to the Tariff Act of 1930, as Amended, 70 FR 24533, 24533 (May 10, 2005).

This notice is issued and published pursuant to section 703(c)(2) of the Act and 19 CFR 351.205(f)(1).

Dated: February 21, 2014.
Paul Piquado,
Assistant Secretary for Enforcement and Compliance.

[FR Doc. 2014-10846 Filed 5-9-14; 8:45 am]

BILLING CODE 3510-DS-P